DEPARTMENT OF HOMELAND SECURITY

Coast Guard

46 CFR Chapter I

[USCG-2005-20052]

Potable Water on Inspected Vessels

Correction

In proposed rule document 05-13074 beginning on page 39699 in the issue of Monday July 11, 2005, make the following correction:

On page 39699, in the first column, the CFR title heading is corrected to read as set forth above.

[FR Doc. C5-13074 Filed 7-15-05; 8:45 am]

BILLING CODE 1505-01-D